DEPARTMENT OF COMMERCE

National Oceanic and Atmospheric Administration

[I.D. 080904E]

Atlantic Highly Migratory Species; Exempted Fishing Permits

AGENCY: National Marine Fisheries Service (NMFS), National Oceanic and Atmospheric Administration (NOAA), Commerce.

ACTION: Notice of receipt of a request for exempted fishing permits; request for comments.

SUMMARY: NMFS announces the receipt of a request for exempted fishing permits (EFPs) for conducting bycatch reduction research in the following regions of the Atlantic Ocean: North of Cape Hatteras, South of Cape Hatteras, and Gulf of Mexico (GOM). NMFS invites comments from interested parties on potential concerns should these EFPs be issued.

DATES: Written comments on the proposed exempted fishing activity must be received no later than September 2, 2004.

ADDRESSES: You may submit comments by any of the following methods:

• Email: ID080904E@noaa.gov. Include in the subject line the following identifier: I.D.080904E.

• Mail: Christopher Rogers, Chief, Highly Migratory Species Management Division (F/SF1), NMFS, 1315 East-West Highway, Silver Spring, MD 20910.

• Fax: (301)713-1917.

FOR FURTHER INFORMATION CONTACT: Heather Stirratt, 301-713-2347; fax: 301-713-1917.

SUPPLEMENTARY INFORMATION: EFPs are requested and issued under the authority of the Magnuson-Stevens Fishery Conservation and Management Act (16 U.S.C. 1801 et seq.) and/or the Atlantic Tunas Convention Act (16 U.S.C. 971 et seq.). Regulations at 50 CFR 600.745 and 50 CFR 635.32 govern scientific research activity, exempted fishing, and exempted educational activity with respect to Atlantic HMS.

Several operators of permitted Atlantic pelagic longline vessels have requested exemptions from certain regulations applicable to the harvest and landing of Highly Migratory Species (HMS) in order to conduct bycatch reduction research in the following regions of the Atlantic Ocean: North of Cape Hatteras, South of Cape Hatteras, and Gulf of Mexico (GOM). Specifically, the permitted pelagic longline vessels propose to test gear modifications and/or various fishing techniques to avoid incidentally-caught white marlin, blue marlin, bluefin tuna, and sea turtles, while allowing for the targeted catches of allowed species.

Research experiments will be carried out, to the extent practicable, within open fishing areas. However, due to statistical protocols to demonstrate the effectiveness of gear modifications it may be necessary to conduct comparison experiments inside of existing closed areas. Restricted access within existing closed areas has been proposed by the applicants as terms and conditions of the proposed research in order to minimize or eliminate the potential for gear and/or fishing grounds conflicts. Within the GOM region, two pelagic longline vessels propose to conduct 100 compensated bycatch reduction fishing sets (approximately 750 hooks/set) during a limited time period (May through October). Within the North of Cape Hatteras region, two pelagic longline vessels propose to conduct 50 compensated bycatch reduction fishing sets (approximately 680 hooks/set) during a limited time period (May, June, and July). Within the South of Cape Hatteras region, two pelagic longline vessels propose to conduct 50 compensated bycatch reduction fishing sets (approximately 556 hooks/set) during a limited time period (October through December).

This research may benefit all interested parties by providing fishery managers with additional gear modifications and/or fishing techniques that reduce or avoid incidental capture/bycatch mortality of highly migratory species (HMS) in the research areas as proposed above.

The regulations that would prohibit the proposed activities include requirements for size limits (50 CFR 635.20) and gear operation and deployment (50 CFR 635.21).

NMFS invites comments from interested parties on potential concerns should these EFPs be issued.

Authority: 16 U.S.C. 971 et seq. and 16 U.S.C. 1801 et seq.

Dated: August 13, 2004.
Alan D. Risenhoover,
Acting Director, Office of Sustainable Fisheries, National Marine Fisheries Service.

[FR Doc. 04-19053 Filed 8-19-04; 8:45 am]

BILLING CODE 3510-22-S